DEPARTMENT OF THE INTERIOR

Bureau of Land Management

[LLNVS00000. L13400000.KH0000; MO# 4500160406]

Notice of Competitive Offer and Notice of Segregation for Solar Energy Development on Public Land, Clark County, Nevada

AGENCY: Bureau of Land Management, Interior.

ACTION: Notice.

SUMMARY: The Bureau of Land Management (BLM), Las Vegas Field Office is announcing that it will accept competitive bids to determine a preferred right-of-way applicant for solar energy development on a 1,635-acre parcel of public land, referred to as the Dry Lake East Designated Leasing Area, located in Clark County, Nevada. The BLM also announces the segregation of the 1,635-acre parcel of public lands from appropriation under the public land laws, including the Mining Law, but not the Mineral Leasing or Material Sales Acts, for a period of 2 years from the date of publication of this notice, subject to valid existing rights. This segregation will facilitate the orderly administration of the public lands while the BLM considers potential solar development on the described parcel.

DATES: The competitive offer will be held at 1:00 p.m. Pacific Time (PT) on May 20, 2022. All sealed bids must be received by the Las Vegas Field Office at the address listed in the ADDRESSES section by 10:00 a.m. PT on May 20, 2022. The segregation for the lands identified in this notice is effective on April 5, 2022.

ADDRESSES: Sealed bids may be mailed or hand delivered to the Bureau of Land Management, Attention: Energy and Infrastructure Team, 4701 North Torrey Pines Drive, Las Vegas, NV 89130. Electronic bid submissions will not be accepted.

FOR FURTHER INFORMATION CONTACT: Beth Ransel, Supervisory Project Manager, at (702) 515-5000 or BLM_NV_SND_EnergyProjects@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Competitive Offering Information: The BLM Las Vegas Field Office is conducting a competitive process to determine a preferred right-of-way applicant to submit a right-of-way application, plan of development, and application fee for a parcel of land described as the Dry Lake East Designated Leasing Area. As provided for in 43 CFR 2804.30(b), a sealed bid competitive bidding procedure will be used to determine a preferred right-of-way applicant for the Dry Lake East Designated Leasing Area.

Bidders may submit sealed bids for the parcel, consisting of approximately 1,635 acres of public lands legally described in this Notice. The BLM has determined the minimum bid for the parcel to be $37,780. The minimum bid represents 10 percent of the acreage rent ($33,823); the acreage rent is calculated by multiplying the number of acres being offered times the annual per acre zone rate from the solar energy acreage rent schedule (43 CFR 2806.52(a)). In addition, the minimum bid includes an administrative fee of $3,957 (approximately $2.42 per acre) to cover the BLM's costs of preparing for and conducting the competitive offer. In addition to the minimum bid, bidders may also offer a bonus bid of any dollar amount.

To submit a bid, you must provide the bidder's name and personal or business address. Each bid can only contain the name of one bidder (i.e., citizen, association or partnership, corporation, or municipality). For your bid to receive consideration, you must submit a complete bid package, including a Technical and Financial Capability Certification, Sealed Bid Statement, payment for the minimum bid and at least 20 percent of the bonus bid. All bidding documents must be enclosed in a sealed envelope with the bidder's name and return address on the outside. Include the following notation on the front lower left-hand corner of the sealed envelope: “SEALED BID—DO NOT OPEN.” The Technical and Financial Capability Certification form, Sealed Bid Statement form, and a complete description of the bid process are contained in an Invitation for Bids package available at the following location: https://eplanning.blm.gov/eplanning-ui/project/86813.

The successful bidder will be determined by highest total bid. All bidders will be notified within 10 calendar days after the bidding closes of whether they were the successful bidder.

If you are the successful bidder, within 15 calendar days after notification you must submit the balance of the bonus bid to the BLM Las Vegas Field Office. If you are the successful bidder, the BLM will select you as the preferred right-of-way applicant only if you: (1) Satisfy the qualifications in 43 CFR 2803.10; (2) make the required payments listed above; and (3) do not have any trespass action pending against you for any activity on BLM-administered lands or have any unpaid debts owed to the Federal Government. If the listed requirements are not satisfied within the 15-day time period, the BLM will not select the identified successful bidder as the preferred right-of-way applicant and will keep all money that has been submitted. In that event, the BLM may identify the next highest bidder as the successful bidder (then follow requirements as noted above for successful bidder) or re-offer the lands through another competitive process.

The administrative fee portion of the minimum bid will be retained by the agency to recover administrative costs for conducting the competitive bid and related processes. The remainder of the minimum bid and bonus bid will be deposited with the U.S. Treasury. Neither amount will be returned or refunded to the successful bidder(s) under any circumstance. If you are not the successful bidder, the BLM will return or refund the bid amount submitted with your bid.

Any required payments submitted must be made by a certified check, postal money order, bank draft, or cashier's check made payable in U.S. dollars to “Department of the Interior—Bureau of Land Management”.

If there is no bid received for the parcel, then no preferred right-of-way applicant will be identified and no application will be processed for solar energy development under the procedures listed in this notice. In the case of tied bids, the BLM may re-offer the lands competitively to the tied bidders or to all prospective bidders.

Within 30 days of notification of the auction result, the successful bidder must submit a right-of-way application that conforms with all application requirements found at 43 CFR 2804.12. Within 60 days of notification of the auction result, the successful bidder must submit a plan of development that conforms with the BLM's Solar Energy Development Plan of Development template. The preferred right-of-way applicant will be required to reimburse the United States for the cost of processing an application consistent with the requirements of the regulations at 43 CFR 2804.14. The cost recovery fees are based on the amount of time the BLM estimates it will take to process the right-of-way application and issue a decision. The BLM will begin processing the right-of-way application once the cost recovery fees are received as required by the regulations. Processing of the right-of-way application will be done in accordance with applicable law, regulation, and policy. Additional fees may be required as part of approval of a right-of-way grant, including mitigation-related fees.

Only interests in issued right-of-way grants are assignable under the existing regulations at 43 CFR 2807.21. The interest acquired by the successful high bidder or preferred right-of-way applicant from this auction may not be assigned or sold to another party prior to the issuance of a right-of-way grant. The successful bidder may, however, continue to pursue their application if the successful bidder becomes a wholly-owned subsidiary of a new third party.

Segregation: Regulations found at 43 CFR 2091.3-1(e) and 2804.25(f) allow the BLM to segregate public lands for potential rights-of-way when initiating a competitive process for solar energy development from the operation of the public land laws, including the Mining Law, by publication of a Federal Register notice. The BLM uses this authority to preserve its ability to approve, approve with modifications, or deny proposed rights-of-way, and to facilitate the orderly administration of the public lands. This segregation is subject to valid existing rights, including existing mining claims located before this segregation notice. Licenses, permits, cooperative agreements, or discretionary land use authorizations of a temporary nature which would not impact lands identified in this notice may be allowed with the approval of a BLM authorized officer during the segregation period. As provided in the regulations, the segregation of lands in this notice will not exceed 2 years from the date of publication unless extended for an additional 2 years through publication of a new notice in the Federal Register. The segregation period will terminate and the land will automatically reopen to appropriation under the public land laws, including the mining law at the earliest of the following dates: Upon issuance of a decision by the authorized officer granting, granting with modifications, or denying the application for a right-of-way; without further administrative action at the end of the segregation provided for in the Federal Register notice initiating the segregation; or upon publication of a Federal Register notice terminating the segregation. Upon termination of the segregation of these lands, all lands subject to this segregation would automatically reopen to appropriation under the public land laws, including the mining law.

Legal Description for Parcel: The subject parcel is legally described as follows—

Mount Diablo Meridian, Nevada

T. 17 S., R. 64 E.,

Sec. 32, those portions of the S½NE¼ lying westerly of the westerly right-of-way of CC-0360, those portions of the SE¼NW¼ lying southeasterly of the southeasterly right-of-way boundary of NEV-045565, and those portions of the S½ lying southeasterly of the southeasterly right-of-way boundary of NEV-045565 and westerly of the westerly right-of-way boundary of CC-0360.

T. 18 S., R. 64 E.,

Sec. 5, those portions lying westerly of the westerly right-of-way boundary of CC-0360;

Sec. 6, that portion of lot 8 lying southeasterly of the southeasterly right-of-way boundary of NEV-045565, that portion of the SE¼NE¼ lying southeasterly of the southeasterly right-of-way boundary of NEV-045565, and S½SE¼SE¼;

Sec. 7, lots 12, 18, 19, 20, and 29, NE¼NE¼, S½NE¼, N½SE¼SW¼, N½SE¼, N½SW¼SE¼, and N½SE¼SE¼;

Sec. 8, those portions of the N½ and NW¼SW¼ lying northerly and northwesterly of the northerly and northwesterly right-of-way boundary of CC-0360.

The area described contains 1,635 acres, more or less, according to the BLM National Public Land Survey System CadNSDI and the official plats of the surveys of the said land, on file with the BLM.

Shonna Dooman,
Field Manager—Las Vegas Field Office.

[FR Doc. 2022-07078 Filed 4-4-22; 8:45 am]

BILLING CODE 4310-DQ-P